SECURITIES AND EXCHANGE COMMISSION

[Release No. 34-91135; File No. SR-CBOE-2020-034]

Self-Regulatory Organizations; Cboe Exchange, Inc.; Notice of Withdrawal of a Proposed Rule Change, as Modified by Amendment Nos. 1 and 2, to Authorize for Trading Flexible Exchange Options on Full-Value Indexes With a Contract Multiplier of One

February 16, 2021.

On June 30, 2020, Cboe Exchange, Inc. (“Exchange”) filed with the Securities and Exchange Commission (“Commission”), pursuant to Section 19(b)(1) of the Securities Exchange Act of 1934 (“Exchange Act”) ¹ and Rule 19b-4 thereunder,² a proposed rule change to authorize for trading flexible exchange options on full-value indexes with a contract multiplier of one.

¹ 15 U.S.C. 78s(b)(1).

² 17 CFR 240.19b-4.

The proposed rule change was published for comment in the Federal Register on July 20, 2020.³ On September 2, 2020, pursuant to Section 19(b)(2) of the Exchange Act,⁴ the Commission designated a longer period within which to approve the proposed rule change, disapprove the proposed rule change, or institute proceedings to determine whether to disapprove the proposed rule change.⁵ On October 15, 2020, the Commission instituted proceedings under Section 19(b)(2)(B) of the Exchange Act ⁶ to determine whether to approve or disapprove the proposed rule change.⁷ On January 12, 2021, the Exchange submitted Amendment No. 1 to the proposed rule change.⁸ On January 14, 2021, the Commission designated a longer period for Commission action on proceedings to determine whether to approve or disapprove the proposed rule change, as modified by Amendment No. 1.⁹ On February 4, 2021, the Exchange submitted Amendment No. 2 to the proposed rule change.¹⁰ On February 12, 2021, the Exchange withdrew the proposed rule change (SR-CBOE-2020-034).

³ See Securities Exchange Act Release No. 89308 (July 14, 2020), 85 FR 43923. Comments received on the proposed rule change are available on the Commission's website at: https://www.sec.gov/comments/sr-cboe-2020-034/srcboe2020034.htm.

⁴ 15 U.S.C. 78s(b)(2).

⁵ See Securities Exchange Act Release No. 89743, 85 FR 55717 (September 9, 2020).

⁶ 15 U.S.C. 78s(b)(2)(B).

⁷ See Securities Exchange Act Release No. 90204, 85 FR 67037 (October 21, 2020).

⁸ In Amendment No. 1, the Exchange provided additional support for the proposal. The full text of Amendment No. 1 is available on the Commission's website at: https://www.sec.gov/comments/sr-cboe-2020-034/srcboe2020034.htm.

⁹ See Securities Exchange Act Release No. 89743, 86 FR 6718 (January 22, 2021). The Commission designated March 17, 2021 as the date by which the Commission shall either approve or disapprove the proposed rule change, as modified by Amendment No. 1.

¹⁰ In Amendment No. 2, the Exchange provided further support and rationale for the proposal. The full text of Amendment No. 2 is available on the Commission's website at: https://www.sec.gov/comments/sr-cboe-2020-034/srcboe2020034.htm.

For the Commission, by the Division of Trading and Markets, pursuant to delegated authority.¹¹
¹¹ 17 CFR 200.30-3(a)(12).
J. Matthew DeLesDernier,
Assistant Secretary.

[FR Doc. 2021-03459 Filed 2-19-21; 8:45 am]

BILLING CODE 8011-01-P